DEPARTMENT OF DEFENSE

Office of the Secretary

[Docket ID: DOD-2009-OS-0080]

Privacy Act of 1974; System of Records

AGENCY: Defense Finance and Accounting Service, DoD.

ACTION: Notice to add a new System of Records.

SUMMARY: The Defense Finance and Accounting Service (DFAS) is proposing to add a system of records notice to its inventory of record systems subject to the Privacy Act of 1974, (5 U.S.C. 552a), as amended.

DATES: This Action will be effective without further notice on July 16, 2009 unless comments are received that would result in a contrary determination.

ADDRESSES: Send comments to the FOIA/PA Program Manager, Corporate Communications and Legislative Liaison, Defense Finance and Accounting Service, 8899 E. 56th Street, Indianapolis, IN 46249-0150.

FOR FURTHER INFORMATION CONTACT: Ms. Linda Krabbenhoft at (720) 242-6631.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 3, 2009, to the House Committee on Government Reform, the Senate Committee on Governmental Affairs, and the Office of Management and Budget (OMB) pursuant to paragraph 4c of Appendix I to OMB Circular No. A-130, `Federal Agency Responsibilities for Maintaining Records About Individuals,' dated December 12, 2000, 65 FR 239.

Dated: June 4, 2009.
Morgan E. Frazier,
Alternate OSD Federal Register Liaison Officer, Department of Defense.

T7108

System name:

Base Accounts Receivable System (BARS).

System location(s):

Defense Information Systems Agency (DISA), Defense Enterprise Computing Center (DECC)—Montgomery, 401 East Moore Drive, Maxwell Air Force Base, Alabama 36114-3001.

Defense Information Systems Agency (DISA), Defense Enterprise Computing Center (DECC)—Ogden, 7879 Wardleigh Road, Hill Air Force Base, Utah 84058-5997.

Defense Information Systems Agency (DISA), Defense Enterprise Computing Center (DECC)—Mechanicsburg, Bldg 308, Naval Support Activity (NSA), 5450 Carlisle Pike, Mechanicsburg, PA 17050-2411.

Defense Finance and Accounting Service, DFAS—Denver, 6760 E. Irvington Place, Denver, CO 80279-8000.

Defense Finance and Accounting Service, DFAS-Limestone, 27 Arkansas Road, Limestone, ME 04751-1500.

Defense Finance and Accounting Service, DFAS-Japan, Building 206 Unit 5220, APO AP 96328-5220.

Defense Finance and Accounting Service, DFAS-Columbus, 3990 East Broad St, Columbus, OH 43213-1152.

Defense Finance and Accounting Service, DFAS-Indianapolis, 8899 East 56th Street, Indianapolis, IN 46249-0150.

Secretary of the Air Force, SAF/FMBMB-AFO, 201 12th Street, Suite 512B, Arlington, VA 22202-5408.

Categories of individuals covered by the system:

Active duty Air Force military members.

Categories of records in the system:

Name, Social Security Number (SSN), address, billing and accounts receivable information, and delinquent account information.

Authority for maintenance of the system:

5 U.S.C. 301, Departmental regulations, Department of Defense Financial Management Regulation (DoDFMR) 7000.14-R Vol. 4, 31 U.S.C. Sections 3511 and 3513, and E.O. 9397 (SSN).

Purpose(s):

This system will automate the accounts receivable functions on Air Force bases for trailer space rentals, Class B telephones, and miscellaneous reimbursement accounts. It will bill customers for current monthly charges in addition to collecting cash payments from cash customers and payroll deductions from Air Force military customers out of their military pay accounts. Accounts receivable records will be maintained for customers billed by account type and it will provide monthly management reports. In addition, the system will generate follow-up documents that will provide the system users information on interest charges incurred on delinquent accounts.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses' published at the beginning of the DFAS compilation of systems of records notices apply to this system.

Policies and practices for storing, retrieving, accessing, retaining, and disposing of records in the system:

Storage:

Electronic storage media and hard copy records.

Retrievability:

Name and Social Security Number (SSN).

Safeguards:

Records are stored in an office building protected by guards, controlled screening, use of visitor registers, electronic access, and/or locks. Access to records is limited to authorized individuals who are properly screened and cleared on a need-to-know basis in the performance of their duties. Passwords and digital signatures are used to control access to the system data, and procedures are in place to deter and detect browsing and unauthorized access. Physical and electronic access is limited to persons responsible for servicing and authorized to use the system.

Retention and disposal:

Records may be temporary in nature and deleted when actions are completed, superseded, obsolete, or no longer needed. Some records may be cut off at the end of the payroll year, and then destroyed up to 6 years and 3 months after cutoff. Records are destroyed by degaussing the electronic media and recycling hardcopy records. The recycled hardcopies are destroyed by shredding, burning, or pulping.

System manager(s) and address:

Defense Finance and Accounting Service, Denver, System Management Directorate, Accounting and Cash Systems, 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 8899 56th Street, Indianapolis, IN 46249-0150.

Individuals should furnish full name, Social Security Number (SSN), current address and telephone number.

Record access procedures:

Individuals seeking access to information about themselves contained in this system of records should address written inquiries to Defense Finance and Accounting Service, Freedom of Information/Privacy Act Program Manager, Corporate Communications and Legislative Liaison, 8899 E. 56th Street, Indianapolis, IN 46249-0150.

Individuals should furnish full name, Social Security Number (SSN), current address and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

Record source categories:

From the individual concerned or the U.S. Air Force.

Exemptions claimed for the system:

None.

[FR Doc. E9-14102 Filed 6-15-09; 8:45 am]

BILLING CODE 5001-06-P